FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011550-007.

Title: ABC Discussion Agreement.

Parties: A.P. Moller-Maersk Sealand, Evergreen Marine Corp. (Taiwan) Ltd., Hamburg-Sud, King Ocean Service, S.A., Seafreight Line, Ltd.

Synopsis: The proposed agreement modification, among other things, (1) adds authority for the parties to enter into joint service contracts, adopt voluntary contract guidelines, and share vessel space on an ad hoc basis; (2) revises agreement membership provisions; and (3) deletes Evergreen Marine as a party.

Agreement No.: 011672-003.

Title: CSAV Group Cooperative Working Agreement.

Parties: Compania Sud Americana de Vapores S.A., Companhia Libra de Navegacao, Norasia Container Lines Limited, Montemar Maritima S.A., CSAV Sud Americana de Vapores S.A.

Synopsis: The proposed amendment adds CSAV Sud Americana de Vapores S.A. to the agreement.

Agreement No.: 011733-001.

Title: Common Ocean Carrier Platform Agreement.

Parties: A.P. Moller-Maersk Sealand, P&O Nedlloyd Limited, Hamburg Sud, Mediterranean Shipping Company, S.A., CMA CGM, Hapag-LLoyd Container Line GmbH.

Synopsis: The proposed amendment clarifies that Inttra shall not negotiate or mediate between any member and their shipper customers, provides for class A voting stock and class B non-voting stock ownership in Inttra, provides procedures for appointing a director to the Board of Directors, provides for the appointment of a Chief Executive Officer, and makes clarifying changes and deletions in the text.

Agreement No.: 011743-002.

Title: Global Transportation Network Agreement.

Parties: ANZDL Limited, APL Co. PTE Ltd., Canada Maritime Limited, Cast Line Limited, Contship Containerlines Limited, CP Ships Holding Inc., Crowley Maritime Corporation, CSAV Group Cooperative Working Agreement, Compania Sud American De Vapores S.A., Norasia Container Lines Limited, Montemar Maritima S.A., Companhia Libra de Navagacao, Hanjin Shipping Co., Ltd, Kawasaki Kisen Kaisha, Ltd., Lykes Lines Limited, LLC, Mexican Line Limited, Mitsui O.S.K. Lines, Ltd., Senator Linie GmbH & Co., KG, Wan Hai Lines Ltd., Zim Israel Navigation Company, Hyundai Merchant Marine Co., Ltd, Yangming Marine Transport Corp.

Synopsis: The proposed modification adds the CSAV Group Cooperative Working Agreement (FMC Agreement No. 011672) as a single party. The parties have requested expedited review.

Agreement No.: 201073-001.

Title: Oakland—Hanjin Terminal Agreement.

Parties: Port of Oakland, Hanjin Shipping Co., Ltd.

Synopsis: The proposed amendment clarifies China National Foreign Trade Transportation Group Corp's. status as a primary user under the agreement.

Agreement No.: 201116.

Title: Marine Terminal Management Agreement between Broward County and South Stevedoring, Inc.

Parties: Broward County (a political subdivision of the State of Florida) South Stevedoring, Inc.

Synopsis: The proposed agreement assigns certain property to South Stevedoring, Inc. for use as a container terminal yard. The terminal agreement runs through February 28, 2021.

By Order of the Federal Maritime Commission.
Bryant L. VanBrakle,
Secretary.

[FR Doc. 01-5598 Filed 3-7-01; 8:45 am]

BILLING CODE 6730-01-P